DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 26, 2024 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: National School Lunch Program.

OMB Control Number: 0584-0006.

Summary of Collection: The Richard B. Russell National School Lunch Act (NSLA) (42 U.S.C. 1751 et seq.) authorizes the National School Lunch Program (NSLP). Section 10 of the Child Nutrition Act of 1966 (CNA) (Pub. L. 111-296) requires the Secretary of Agriculture to prescribe such regulations as deemed necessary to carry out Child Nutrition Programs authorized under the NSLA and the CNA. The NSLA, as amended, authorizes the NSLP; 7 CFR part 210, to safeguard the health and well-being of the Nation's children and provide free or reduced-price school lunches to eligible students through subsidies to schools. FNS published a final rule, “Child Nutrition Programs: Meal Patterns Consistent with the 2020-2025 Dietary Guidelines for Americans” (RIN 0584-AE88) in the Federal Register on April 25, 2024 (89 FR 31962) which introduces new reporting and recordkeeping requirements for the NSLP. Under the NSLA, FNS is required to develop school nutrition requirements that are consistent with the goals of the most recent Dietary Guidelines for Americans. In addition, schools are required by regulation to comply with the meal requirements. This rulemaking finalizes long-term school nutrition requirements based on the most recent Dietary Guidelines for Americans and feedback from Child Nutrition Program stakeholders. The final rule strengthens the Buy American provision which requires the purchase of domestic commodities or products “to the maximum extent practicable,” maintains circumstances where limited exceptions are permitted to those requirements and requires school food authorities (SFAs) to include the Buy American provisions in procurement procedures, solicitations, food contracts, and awarded contracts. The final rule permits flexibilities regarding the standard educational criteria in the professional standards hiring requirements and allows SFAs and schools that are tribally operated, operated by the Bureau of Indian Education, and that serve primarily American Indian or Alaska Native children to serve vegetables to meet the grains requirements. In addition, to meet the goals of the Dietary Guidelines for Americans, the final rule updates nutrition requirements, particularly concerning reduced sodium and reduced added sugar content in school meals, which means that SFAs will need to do additional development and editing of their menus. In addition, FNS is also accounting for total additional start-up and maintenance costs of $21,819,000 that will be incurred by the State agencies and SFAs for maintenance of databases, menu planning, materials, and other rule-related costs as a result of this final rule.

FNS is publishing a 30-Day Notice for this final rule submission because the agency changed how the requirements and burden changes were submitted for approval in the final rule from what was used in the proposed rule. Due to uncertain timing of the rules in conjunction with the renewal of this collection, FNS decided to request a new OMB control number for the collections related to the rule and later merge them into the existing information collections that are related to these requirements. By the time of the final rule, however, this collection was renewed, so FNS decided to switch to revisions of the existing collections, rather than requesting a new OMB control number. OMB reviewed the proposed submission as “filed with comment” on March 21, 2023, and assigned the preliminary OMB Control Number 0584-0679 to the collection. However, because FNS decided to submit revisions to the existing information collections, this preliminary OMB control number was not used for the final rule submission.

Need and Use of the Information: The revisions to this ongoing information collection are due to the final rule, “Child Nutrition Programs: Meal Patterns Consistent with the 2020-2025 Dietary Guidelines for Americans”, which amends Program regulations and introduces new reporting and recordkeeping requirements into this collection. Staff at the State agencies and the SFAs must collect, provide, and maintain the information required by this rule. This final rule encompasses both mandatory and required to obtain or retain a benefit information requirements. The State agencies and SFAs are responsible for maintaining documentation and records to demonstrate their compliance with the Buy American provisions, the flexibility for SFAs or its schools which are tribally operated, operated by the Bureau of Indian Education, or serve primarily American Indian or Alaska Native students to serve vegetables in place of grains, the submission and approval of requests to hire school nutrition program directors who do not meet the standard education criteria, and to develop and maintain menus that reflect the updated nutrition specifications in accordance with the final rule. FNS will use this information to ensure compliance with the final rule requirements.

Description of Respondents: State, Local, or Tribal Government.

Number of Respondents: 115,935.

Frequency of Responses: Recordkeeping; Reporting: On occasion, Annually, and Other (every 3 years).

Total Burden Hours: 10,143,277.

Rachelle Ragland-Greene,
Departmental Information Collection Clearance Officer.

[FR Doc. 2024-19136 Filed 8-26-24; 8:45 am]

BILLING CODE 3410-30-P